DEPARTMENT OF ENERGY

Federal Energy Regulatory Commission

[Docket No. RP96-389-021]

Columbia Gulf Transmission Company; Notice of Negotiated Rate Filing

April 4, 2001.

Take notice that on March 30, 2001, Columbia Gulf Transmission Company (Columbia Gulf) tendered for filing to the Federal Energy Regulatory Commission (Commission) the following Amendment Agreement to a recently filed negotiated rate transaction:

Amendment Agreement to ITS-2 Service Agreement No. 70083 between Columbia Gulf Transmission Company and Exxon Mobil Corporation, Dated November 30, 2000, as Amended March 23, 2001

Columbia Gulf states that this transportation service commenced in December, 2000 and was scheduled to terminate on March 31, 2001. The instant filing includes an executed Amendment Agreement that extends the Service Agreement's term through July 31, 2001 and increases the minimum delivery to 200,000 Dths in a given month. All other terms and provisions remain unchanged and in full force and effect.

Columbia Gulf states that copies of the filing have been served on all parties on the official service list created by the Secretary in this proceeding.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8784 Filed 4-9-01; 8:45 am]

BILLING CODE 6717-01-M